DEPARTMENT OF THE INTERIOR

Geological Survey

Agency Information Collection Activities: Comment Request

AGENCY: U.S. Geological Survey (USGS), Interior.

ACTION: Proposed extension of an information collection (1028-0078).

SUMMARY: To comply with the Paperwork Reduction Act of 1995 (PRA), we are notifying the public that we will submit to the Office of management and Budget (OMB) an information collection request (ICR) to renew approval of the paperwork requirements for the North American Amphibian Monitoring Program (NAAMP). This notice provides the public an opportunity to comment on the ICR.

DATES: Submit written comments by March 25, 2007.

ADDRESSES: You may submit comments to the Department of the Interior, USGS, via:

• E-mail: atravnic@usgs.gov. Use Information Collection Number 1028-0078 in the subject line.

• Fax: (703) 648-7069. Use Information Collection Number 1028-0078 in the subject line.

• Mail or hand-carry comments to the Department of the Interior; USGS Clearance Officer, U.S. Geological Survey, 807 National Center, Reston, VA 20192. Please reference Information Collection 1028-0078 in your comments.

FOR FURTHER INFORMATION CONTACT: Linda Weir at (301) 497-5932 or the USGS information collection clearance officer at the phone number listed below.

SUPPLEMENTARY INFORMATION: Title: North American Amphibian Monitoring Program.

OMB Control Number: 1028-0078.

Abstract: The collection of information referred herein applies to a USGS program that permits individuals to submit records of the number of calling amphibians at survey routes. This information is used by scientists and federal, state, and local agencies to monitor amphibian populations and detect population trends. Responses are voluntary. No questions of a ``sensitive'' nature are asked. Further information about the program can be obtained at the Web site http://www.pwrc.usgs.gov/naamp.

Estimated Number and Description of Respondents: Approximately 500 volunteer observers.

Frequency of Responses: 3 times per year.

Estimated Number of Annual Responses: 1,500.

Total Annual burden hours: 4,500 hours.

Estimated Annual Reporting and Recordkeeping ``Hour'' Burden: We estimate the public reporting burden averages 3 hours per response. This includes the time for driving to/from the survey route locations, 5-minute listening period per sampling station (10 sampling stations per route) and data entry time to submit data to the NAAMP.

Estimated Reporting and Recordkeeping “Non-Hour Cost” Burden: Estimated “non-hour cost” burden includes one-time cost per respondent for the purchase of a thermometer, plus the operational cost of mileage for conducting the surveys. The thermometer is needed to record air temperature during the survey. The cost of such thermometers is approximately $15. The total operational costs consist of a mileage estimate in accomplishing a survey, calculated by using the mileage reimbursement rate of 40.5 cents per mile (as used in travel reimbursement for federal employees) times 15 miles (the approximate distance of a calling survey route), for a total of $6.07 per survey.

i. Total capital and start-up costs: $15.00

ii. Total operation and maintenance costs: $6.07

Public Disclosure Statement: The PRA (44 U.S.C. 3501, et seq.) provides that an agency may not conduct or sponsor, and you are not required to respond to, a collection of information unless it displays a current valid OMB control number.

Comments: Before submitting an ICR to OMB, PRA section 3506(c)(2)(A) (44 U.S.C. 3501, et seq.) requires each agency “ * * * to provide notice * * * and otherwise consult with members of the public and affected agencies concerning each proposed collection of information * * * ” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, we publish this Federal Register notice announcing that we will submit this ICR to OMB for approval. This notice provides a required 60-day public comment period.

USGS Information Collection Clearance Officer: Alfred Travnicek, 703-648-7231.

Dated: January 8, 2008
Susan D. Haseltine,
Associate Director for Biology.

[FR Doc. 08-283 Filed 1-24-08; 8:45 am]

BILLING CODE 4311-AM-M